DEPARTMENT OF TRANSPORTATION

Federal Transit Administration

[FTA Docket No. FTA 2021-0012]

Request for Information on Transit Worker Safety

AGENCY: Federal Transit Administration, Department of Transportation (DOT).

ACTION: Request for information.

SUMMARY: The Federal Transit Administration (FTA) administers the Public Transportation Safety Program (Safety Program) to improve the safety performance of the Nation's transit systems. FTA adopted the principles and methods of Safety Management Systems (SMS) as the foundation of the Safety Program. FTA uses SMS processes and activities to proactively identify and address safety risk at the industry level. Through this Request for Information (RFI), FTA solicits public input regarding safety topics that affect transit workers in two areas: Rail transit Roadway Worker Protection (RWP) and transit worker assault prevention. FTA will use this information to evaluate potential actions to mitigate the identified safety risk for transit workers.

DATES: Comments are requested by November 23, 2021.

ADDRESSES: You may file comments identified by docket number FTA-2021-0012 by any of the following methods:

• Federal eRulemaking Portal: Go to https://www.regulations.gov and follow the online instructions for submitting comments.

• Mail: Docket Management Facility, U.S. Department of Transportation, 1200 New Jersey Ave. SE, West Building Ground Floor, Room W12-140, Washington, DC 20590-0001.

• Hand Delivery or Courier: West Building Ground Floor, Room W12-140, 1200 New Jersey Ave. SE, between 9:00 a.m. and 5:00 p.m. ET, Monday through Friday, except Federal holidays.

• Fax: (202) 493-2251.

Instructions: For detailed instructions on submitting comments, see the Public Participation heading of the SUPPLEMENTARY INFORMATION section of this document. Note that all comments received will be posted without change to http://www.regulations.gov, including any personal information provided.

Privacy Act: Except as provided below, all comments received into the docket will be made public in their entirety. The comments will be searchable by the name of the individual submitting the comment (or signing the comment, if submitted on behalf of an association, business, labor union, etc.). You should not include information in your comment that you do not want to be made public. You may review DOT's complete Privacy Act Statement in the Federal Register published on April 11, 2000 (65 FR 19477-78) or at https://www.transportation.gov/privacy.

FOR FURTHER INFORMATION CONTACT: Ray Biggs, Office of Transit Safety and Oversight—Safety Assurance and Risk Management Division, 1200 New Jersey Avenue SE, Mail Stop TSO-10, Washington, DC 20590, (202) 366-4043 or Ray.Biggs@dot.gov.

SUPPLEMENTARY INFORMATION: In August 2016, FTA published the Public Transportation Safety Program regulation, 49 CFR part 670, adopting the principles and methods of SMS and clarifying that FTA will follow these principles and methods in its development of rules, regulations, policies, guidance, best practices, and technical assistance administered under the authority of 49 U.S.C. 5329.

FTA expanded its safety oversight capabilities by establishing an internal SMS approach for identifying transit safety hazards and mitigating safety risk. In 2019, FTA implemented its Safety Risk Management (SRM) process to proactively address safety concerns impacting the transit industry. The SRM process follows a five-step approach: (1) Identify safety concerns; (2) assess safety risk; (3) develop mitigation; (4) implement mitigation; and (5) monitor safety performance. As a result of the first two steps, FTA may develop and advance appropriate mitigations to address a safety risk, such as proposed safety regulations, general or special directives, safety advisories, or technical assistance and training activities.

FTA is currently analyzing two safety concerns utilizing its SRM process related to transit worker safety: RWP and transit worker assault prevention. FTA has observed that transit agencies have worked to improve transit worker safety in both safety concern areas through new technologies, increased training, and the establishment of new rules and procedures.

Rail Transit Roadway Worker Protection

An RWP program is a rail transit agency's (RTA) approach to ensuring worker safety during tasks conducted on or about the transit roadway, such as track inspections. These programs are designed to protect workers from the movement of trains, as well as other hazards on the roadway, like electrified third rail. Some programs include redundant protections, or protections beyond the workers' ability to detect a train.

FTA categorizes redundant protection into two main groups, physical and procedural. Physical redundant protections are technological or mechanical interventions that physically stop a train from striking a roadway worker, such as a derailer or shunt in the signal system. Procedural redundant protections are rules-based interventions that rely on worker training and compliance, such as the use of foul time to clear the track for workers.

The National Transportation Safety Board (NTSB) and Transit Advisory Committee for Safety (TRACS) recommended that FTA take action to address safety concerns associated with RWP. The NTSB included “Improving Rail Worker Safety” in its 2021-2022 Most Wanted List, which identified FTA's lack of RWP regulations, as well as concerns about a lack of redundant protections and deficiencies in agency RWP training programs. TRACS developed eight RWP recommendations in the final report submitted in September 2020, which included minimum safety rules and requirements, as well as research and best practices for RWP.

Transit Worker Assault Prevention

TRACS also recommended actions to address transit worker assault. FTA continues to explore options for potential FTA actions to address this concern. From 2010 to 2020, FTA has noted an average annual increase of 17 percent in the rate of all security events reported to the National Transit Database (NTD) per passenger boarding. There also has been an increase in the rate of assaults on transit operators, defined by the NTD as the personnel (other than security agents) scheduled to be aboard vehicles in revenue operations, including vehicle operators, conductors, and ticket collectors. Based on a review of NTD data, FTA also notes that other transit workers such as station managers, who do not meet the NTD definition of operators but are public-facing, also experience assaults in transit systems.

For the purposes of this RFI, in discussing transit worker assault, FTA will use definitions established in the NTD. The NTD defines assault as “an unlawful attack by one person upon another.”

Questions to the Public

FTA seeks to gather information to support the identification and evaluation of transit worker safety concerns. Respondents to this RFI may respond to any question and do not need to respond to all questions. This RFI offers labor unions, transit industry personnel, researchers, contractors, government entities, safety advocates, transit users, railway operators, and other interested parties the opportunity to inform FTA's potential action on these topics.

The following list of questions and topic areas are intended to guide respondents in this effort:

Rail Transit Roadway Worker Protection

(1) How often do RTA workers work on or about the roadway while passenger trains or other equipment moves are made?

(2) Which RTAs currently have an RWP program?

a. How are these programs implemented?

b. What types of training and certifications are required?

c. What costs are associated with various programs?

(3) What types of redundant protections (physical or procedural, as categorized by FTA) do RTAs use?

a. How do RTAs implement the requirements for redundant protections or what steps do RTAs take to determine what kinds of redundancies to implement?

i. Should physical redundant protections, such as shunts or derailers, be required when train or equipment moves are permitted?

ii. Should procedural redundant protections, such as foul time, be permitted in lieu of physical redundant protections?

(4) How should RWP effectiveness be reviewed and measured by an RTA or other safety stakeholder?

a. How does an RTA review and measure RWP effectiveness?

(5) What approaches to RWP have been most effective and least effective?

(6) If FTA pursues RWP program requirements, what minimum requirements should be included?

a. Should the same requirements apply to each rail transit mode, as defined by the NTD?

(7) What other types of FTA actions might be beneficial to support roadway worker safety?

(8) What information do RTAs collect on RWP that is not reportable to the NTD?

a. What internal thresholds do RTAs use for tracking roadway worker safety events other than those reportable to the NTD?

b. On average, how many additional roadway worker safety events occur per year that do not meet a current NTD reporting requirement?

c. What are or would be the costs associated with collecting and tracking these additional safety events?

(9) What technology is available to improve roadway worker safety?

a. How can FTA better support the development and implementation of these technologies?

Transit Worker Assault Prevention

(10) What types of interactions typically lead to transit worker assaults, including operator assaults?

a. What actions could address and limit these types of interactions?

b. What approaches could prevent transit worker assaults?

c. What differences, if any, are there in approaches to preventing transit worker assaults across different types of transit systems or modes?

(11) If FTA pursues requirements to address transit worker assaults, what minimum requirements should be included?

a. How should the requirements apply to different transit system types or modes?

(12) What other types of FTA actions might be beneficial to support transit worker assault prevention?

(13) What information is collected on transit worker assaults that is not reportable to the NTD?

a. What internal threshold do RTAs use for tracking transit worker assaults other than those reportable to the NTD?

b. On average, how many additional transit worker assaults occur per year that do not meet a current NTD reporting requirement?

i. How many of these additional transit worker assaults are operator assaults?

c. What are or would be the costs associated with tracking these additional assaults?

(14) What technology is available to address transit worker assaults, including operator assaults?

a. How can FTA better support the development and implementation of these technologies?

Please clearly indicate which question(s) you address in your response and any evidence to support assertions, where practicable.

Public Participation

How do I prepare and submit comments?

To ensure that your comments are filed correctly, please include the docket number provided in (FTA-2021-0012) in your comments.

Please submit one copy of your comments, including any attachments, to the docket following the instructions given above under ADDRESSES. Please note, if you are submitting comments electronically as a PDF (Adobe) file, these documents must be scanned using an Optical Character Recognition process, thus allowing the Agency to search and copy certain portions of submissions.

Will FTA consider late comments?

FTA will consider all comments received before the close of business on the comment closing date indicated above under DATES. To the extent practicable, the Agency may also consider comments received after that date.

How can comments submitted by other people be read?

Comments received may be read at the Docket Management Facility, U.S. Department of Transportation, 1200 New Jersey Ave. SE, West Building Ground Floor, Room W12-140, Washington, DC 20590-0001. The hours of the docket are indicated above in the same location. Comments may also be located on the internet, identified by the docket number at the heading of this notice, at http://www.regulations.gov.

Please note, this RFI will serve as a planning document. The RFI should not be construed as policy, a solicitation for applications, or an obligation on the part of the Government.

Nuria I. Fernandez,
Administrator.

[FR Doc. 2021-20744 Filed 9-23-21; 8:45 am]

BILLING CODE P